DEPARTMENT OF THE INTERIOR

National Park Service

[NPS-WASO-NAGPRA-NPS0036926; PPWOCRADN0-PCU00RP14.R50000]

Notice of Intent To Repatriate Cultural Items: James B. and Rosalyn L. Pick Museum of Anthropology at Northern Illinois University, DeKalb, IL (Formerly Anthropology Museum at Northern Illinois University)

AGENCY: National Park Service, Interior.

ACTION: Notice.

SUMMARY: In accordance with the Native American Graves Protection and Repatriation Act (NAGPRA), the James B. and Rosalyn L. Pick Museum of Anthropology at Northern Illinois University (Pick Museum) intends to repatriate a cultural item that meets the definition of a sacred object and that has a cultural affiliation with the Indian Tribes or Native Hawaiian organizations in this notice.

DATES: Repatriation of the cultural item in this notice may occur on or after December 15, 2023.

ADDRESSES: Dr. Christy DeLair, Museum Director, James B. and Rosalyn L. Pick Museum of Anthropology at Northern Illinois University, 1425 W Lincoln Hwy., DeKalb, IL 60015, telephone (815) 753-0230, email cdelair@niu.edu.

SUPPLEMENTARY INFORMATION: This notice is published as part of the National Park Service's administrative responsibilities under NAGPRA. The determinations in this notice are the sole responsibility of the James B. and Rosalyn L. Pick Museum of Anthropology at Northern Illinois University. The National Park Service is not responsible for the determinations in this notice. Additional information on the determinations in this notice, including the results of consultation, can be found in the summary or related records held by the James B. and Rosalyn L. Pick Museum of Anthropology at Northern Illinois University.

Description

In 1966, the Pick Museum purchased a medicine face mask (catalog no. 66-8-8) from the Original Curio and Prospectors Shop in Santa Fe, NM. Pick Museum records identify the medicine face as Seneca and suggest that its provenience is the Cattaraugus Reservation. The medicine face is a sacred object.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: anthropological, geographical, historical, oral traditional, and expert opinion.

Determinations

Pursuant to NAGPRA and its implementing regulations, and after consultation with the appropriate Indian Tribes and Native Hawaiian organizations, the James B. and Rosalyn L. Pick Museum of Anthropology at Northern Illinois University has determined that:

• The one cultural item described above is a specific ceremonial object needed by traditional Native American religious leaders for the practice of traditional Native American religions by their present-day adherents.

• There is a relationship of shared group identity that can be reasonably traced between the cultural item and the Seneca Nation of Indians.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after December 15, 2023. If competing requests for repatriation are received, the James B. and Rosalyn L. Pick Museum of Anthropology at Northern Illinois University must determine the most appropriate requestor prior to repatriation. Requests for joint repatriation of the cultural item are considered a single request and not competing requests. The James B. and Rosalyn L. Pick Museum of Anthropology at Northern Illinois University is responsible for sending a copy of this notice to the Indian Tribe identified in this notice.

Authority: Native American Graves Protection and Repatriation Act, 25 U.S.C. 3003, and the implementing regulations, 43 CFR 10.8, 10.10, and 10.14.

Dated: November 8, 2023.
Melanie O'Brien,
Manager, National NAGPRA Program.

[FR Doc. 2023-25210 Filed 11-14-23; 8:45 am]

BILLING CODE 4312-52-P